DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans that are final. The actions relate to a proposed highway project, the State Route 41 Ranchos Rehabilitation Project from post mile 6.3/9.2 in Madera County, California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before November 12, 2020. If the Federal law that authorizes judicial review of a claim provides a time period of less than 150 days for filing such claim, then that shorter time period still applies.

FOR FURTHER INFORMATION CONTACT: For Caltrans: Som Phongsavanh, Senior Environmental Planner, Caltrans, 855 M Street Suite 200 Fresno, CA 93721, (559) 445-6447, som.phongsavanh@dot.ca.gov. For FHWA, contact David Tedrick at (916) 498-5024 or email david.tedrick@dot.gov.

SUPPLEMENTARY INFORMATION: Effective July 1, 2007, the FHWA assigned, and Caltrans assumed, environmental responsibilities for this project pursuant to 23 U.S.C. 327. Notice is hereby given that the Caltrans, has taken final agency actions subject to 23 U.S.C. 139(l)(1) by issuing licenses, permits, and approvals for the following highway project in the State of California: Caltrans proposes to reconstruct the SR-41 Ranchos Rehabilitation Project, involving a two-lane conventional highway including widening the bridge over the Madera Canal and mainline to achieve standard shoulder width, replacing and/or adding culverts and raising the profile of the highway as needed to prevent flooding. The actions by the agencies, and the laws under which such actions were taken, are described in the Final Environmental Assessment (EA) for the project, approved on May 13th 2020, in the Finding of No Significant Impact (FONSI) issued on May 13th 2020, and in other documents in the FHWA project records. The EA, FONSI, and other project records are available by contacting Caltrans at the addresses provided above. The Caltrans EA and FONSI can be obtained by contacting Caltrans: Som Phongsavanh, Senior Environmental Planner, Caltrans, 855 M Street, Suite 200, Fresno, CA 93721, (559) 445-6447, som.phongsavanh@dot.ca.gov, or viewed at public libraries in the project area.

This notice applies to all Federal agency decisions as of the issuance date of this notice and all laws under which such actions were taken, including but not limited to:

1. Council on Environmental Quality regulations (40 CFR parts 1500 through 1599; 23 CFR part 771);

2. National Environmental Policy Act (NEPA) (42 U.S.C. 4321-4351 et seq.);

3. Moving Ahead for Progress in the 21st Century Act (Map-21, Pub. L. 112-141);

4. Noise Control Act of 1979 (42 U.S.C. 4901 et seq.);

3. Clean Air Act of 1963, as amended (42 U.S.C. 7401 et seq.);

4. Farmland Protection Policy Act (7 U.S.C. 4201-4209);

5. Department of Transportation Act of 1966, Section 4(f) (49 U.S.C. 303);

6. Migratory Bird Treaty Act (16 U.S.C. 703-712);

7. National Historic Preservation Act of 1966, as amended (54 U.S.C. 306108 et seq.);

8. Federal Highway Act of 1970 (23 U.S.C. 109);

9. FHWA Noise Standards, Policies, and Procedures (23 CFR part 772);

10. Endangered Species Act of 1973 (16 U.S.C. 1531-1543);

(Catalog of Federal Domestic Assistance Program Number 20.205, Highway Planning and Construction. The regulations implementing Executive Order 12372 regarding intergovernmental consultation on Federal programs and activities apply to this program.)

Authority: 23 U.S.C. 139(l)(1).

Issued on: June 9, 2020.
Rodney Whitfield,
Director, Financial Services, Federal Highway Administration, California Division.

[FR Doc. 2020-12862 Filed 6-12-20; 8:45 am]

BILLING CODE 4910-RY-P